DEPARTMENT OF TRANSPORTATION

Federal Aviation Administration

14 CFR Part 39

[Docket No. FAA-2013-0095; Directorate Identifier 2011-NM-197-AD]

RIN 2120-AA64

Airworthiness Directives; The Boeing Company Airplanes

AGENCY: Federal Aviation Administration (FAA), DOT.

ACTION: Notice of proposed rulemaking (NPRM).

SUMMARY: We propose to supersede two existing airworthiness directives (AD) that apply to all The Boeing Company Model 767 airplanes. One AD currently requires a functional check of the shear rivets in all six elevator power control actuator (PCA) bellcrank assemblies to determine the condition of the shear rivets, and replacement or rework of the bellcrank assemblies if necessary. The other AD currently requires repetitive testing of the elevator control system to determine if an elevator PCA is rigged incorrectly, and follow-on actions if necessary. Since we issued those ADs, a terminating modification has been designed. This proposed AD would require an inspection to determine the part numbers and condition of the bellcrank assemblies; modification or replacement of the PCA bellcrank assembly, if necessary; and a repetitive functional test and mis-rig check, and corrective actions if necessary. We are proposing this AD to prevent continued operation with yielded or failed shear rivets in the elevator PCA bellcrank assemblies, and to prevent certain failures or jams in the elevator system from causing a hardover of the elevator surface, resulting in a significant pitch upset and possible loss of control of the airplane.

DATES: We must receive comments on this proposed AD by April 12, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Marie Hogestad, Aerospace Engineer, Systems and Equipment Branch, ANM-130S, FAA, Seattle Aircraft Certification Office, 1601 Lind Avenue SW., Renton, WA 98057-3356; phone: 425-917-6418; fax: 425-917-6590; email: marie.hogestad@faa.gov.

SUPPLEMENTARY INFORMATION:

Comments Invited

We invite you to send any written relevant data, views, or arguments about this proposed AD. Send your comments to an address listed under the ADDRESSES section. Include “Docket No. FAA-2013-0095; Directorate Identifier 2011-NM-197-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On August 18, 2000, we issued AD 2000-17-05, Amendment 39-11879 (65 FR 51754, August 25, 2000), for certain The Boeing Company Model 767-200, -300, and -300F series airplanes. That AD requires a one-time functional check of the shear rivets in all six PCA bellcrank assemblies to determine the condition of the shear rivets; and replacement or rework of the bellcrank assemblies, if necessary. That AD resulted from reports that elevator bellcrank assemblies with failed shear rivets had been found on three Model 767 airplanes. We issued that AD to detect and correct any failed or partially yielded shear rivets of the elevator PCA bellcrank assemblies. Failure of two bellcrank assemblies on one side can result in that single elevator surface moving to a hardover position, independent of pilot command, resulting in a significant pitch upset recoverable by the crew. Failure of three bellcrank assemblies on one side could result in loss of control of the airplane.

On February 21, 2001, we issued AD 2001-04-09, Amendment 39-12128 (66 FR 13227, March 5, 2001), for all The Boeing Company Model 767 airplanes. That AD requires repetitive testing of the elevator control system to determine if an elevator PCA is rigged incorrectly due to yielded or failed shear rivets in a bellcrank assembly of the elevator PCA, and follow-on actions if necessary. That AD resulted from reports that several Model 767 airplanes failed the one-time functional check of the shear rivets in the bellcrank assemblies of the elevator PCA required by AD 2000-17-05, Amendment 39-11879 (65 FR 51754, August 25, 2000). We issued AD 2001-04-09, Amendment 39-12128 (66 FR 13227, March 5, 2001), to prevent continued operation with yielded or failed shear rivets in a bellcrank assembly of the elevator PCA, which could result in loss of control of the airplane.

Actions Since Existing AD 2000-17-05, Amendment 39-11879 (65 FR 51754, August 25, 2000); and AD 2001-04-09, Amendment 39-12128 (66 FR 13227, March 5, 2001) Issued

The preambles to AD 2000-17-05, Amendment 39-11879 (65 FR 51754, August 25, 2000); and AD 2001-04-09, Amendment 39-12128 (66 FR 13227, March 5, 2001); specify that we consider the requirements “interim action.” Those ADs explain that we might consider further rulemaking if a modification is developed, approved, and available. The manufacturer now has developed such a modification, and we have determined that further rulemaking is indeed necessary; this proposed AD follows from that determination.

Relevant Service Information

We reviewed Boeing Service Bulletins 767-27-0186, dated June 25, 2007 (for Model 767-200, -300, and -300F series airplanes); and 767-27-0187, dated June 25, 2007 (for Model 767-400ER series airplanes). This service information describes procedures for doing a general visual inspection of the PCA bellcrank assemblies on each elevator to determine if the bellcrank assembly has shear rivets; and installing a solid elevator PCA bellcrank assembly or reworking the bellcrank assembly to replace the shear rivets with solid rivets, if necessary. This service information also describes procedures for the initial test of the elevator PCA input rod assemblies (pogo check), and replacement or overhaul if necessary; and an elevator PCA rigging check.

We also reviewed Boeing Service Bulletins 767-27-0200, dated June 25, 2007 (for Model 767-200, -300, and -300F series airplanes); and 767-27-0201, dated June 27, 2007 (for Model 767-400ER series airplanes). This service information describes procedures for repetitive testing of the elevator PCA input rod assemblies (pogo check), and replacing or overhauling the elevator PCA input rod assembly, if necessary.

We reviewed Boeing Service Bulletins 767-27-0202, Revision 1, dated February 21, 2008 (for Model 767-200, -300, and -300F series airplanes); and 767-27-0203, Revision 1, dated February 21, 2008 (for Model 767-400ER series airplanes). This service information describes procedures for doing repetitive checks of the elevator PCA rigging, and adjusting the PCA input rod assemblies and structural inspection, if necessary.

Other Relevant Rulemaking

AD 2007-24-08, Amendment 39-15274 (72 FR 67236, November 28, 2007), was issued for Model 767 airplanes. That AD requires repetitive measurements of the rudder and elevator freeplay, related investigative and corrective actions if necessary, and repetitive lubrications of the rudder and elevator components. For certain airplanes, we require concurrent actions.

FAA's Determination

We are proposing this AD because we evaluated all the relevant information and determined the unsafe condition described previously is likely to exist or develop in other products of the same type design.

Proposed AD Requirements

This proposed AD would retain certain requirements of AD 2000-17-05, Amendment 39-11879 (65 FR 51754, August 25, 2000); and AD 2001-04-09, Amendment 39-12128 (66 FR 13227, March 5, 2001). This proposed AD would require an inspection to determine the part numbers and condition of the bellcrank assemblies; modification or replacement of the PCA bellcrank assembly, if necessary; and repetitive post-modification testing and corrective actions, if necessary. This proposed AD would also require accomplishing the actions specified in the service information described previously, except as discussed under “Differences Between the Proposed AD and the Service Information.”

Change to Existing AD 2001-04-09 (66 FR 13227, March 5, 2001) and AD 2000-17-05, Amendment 39-11879 (65 FR 51754, August 25, 2000)

Boeing Commercial Airplanes has received an Organization Designation Authorization (ODA). We have revised this proposed AD to delegate the authority to approve an alternative method of compliance for any repair required by this proposed AD to the Boeing Commercial Airplanes ODA rather than a Designated Engineering Representative (DER).

Since AD 2000-17-05, Amendment 39-11879 (65 FR 51754, August 25, 2000); and AD 2001-04-09, Amendment 39-12128 (66 FR 13227, March 5, 2001); were issued, the AD format has been revised, and certain paragraphs have been rearranged. As a result, the corresponding paragraph identifiers have changed in this proposed AD, as listed in the following table:

Revised Paragraph Identifiers
Requirement in previous AD | Corresponding requirement in this proposed AD
Paragraph (a) of AD 2000-17-05, Amendment 39-11879 (65 FR 51754, August 25, 2000) | paragraph (g).
Paragraph (b) of AD 2000-17-05 | paragraph (g)(4).
Paragraph (a) of AD 2001-04-09, Amendment 39-12128 (66 FR 13227, March 5, 2001) | paragraph (h).
Paragraph (b) of AD 2001-04-09 | paragraph (i).

In addition, we have revised certain headings pertaining to restated material throughout this AD.

Differences Between the Proposed AD and the Service Information

This proposed AD will allow for an alternate grease (BMS 3-33) when accomplishing the actions specified in Boeing Service Bulletins 767-27-0186 and 767-27-0187, both dated June 25, 2007.

Although Boeing Service Bulletins 767-27-0202 and 767-27-0203, both Revision 1, both dated February 21, 2008, do not specify a corrective action following a structural inspection, this proposed AD would require operators to repair conditions using a method approved by the FAA.

Costs of Compliance

We estimate that this proposed AD affects 415 airplanes of U.S. registry.

We estimate the following costs to comply with this proposed AD:

Estimated Costs
Action | Labor cost | Parts cost | U.S. airplanes | Cost per product | Cost on U.S. operators
Functional check of the shear rivets (existing requirement for AD 2000-17-05, Amendment 39-11879 (65 FR 51754, August 25, 2000)) | 4 work-hours × $85 per hour = $340 | $0 | 330 | $340 | $112,200.
Repetitive inspection of bellcrank assemblies (existing requirement for AD 2001-04-09, Amendment 39-12128 (66 FR 13227, March 5, 2001)) | 2 work-hours × $85 per hour = $170 per inspection cycle | 0 | 335 | $170 per inspection cycle | $56,950 per inspection cycle.
Inspection of elevator PCA bellcrank assemblies, functional test (pogo check), and elevator mis-rig check (new proposed actions for Model 767 airplanes having line numbers 1-901) | 23 work-hours × $85 per hour = $1,955 | 0 | 390 | $1,955 | $762,450.
Repetitive functional test (pogo check) (new proposed action for all Model 767 airplanes) | 32 work-hours × $85 per hour = $2,720 per inspection cycle | 0 | 415 | $2,720 per inspection cycle | $1,128,800 per inspection cycle.
Repetitive elevator mis-rig check (new proposed action for all Model 767 airplanes) | 2 work-hours × $85 per hour = $170 per inspection cycle | 0 | 415 | $170 per inspection cycle | $70,550 per inspection cycle.

We estimate the following costs to do any necessary repairs or replacements that would be required based on the results of the proposed inspection, tests, and checks. We have no way of determining the number of aircraft that might need these repairs or replacements.

We estimate that reworking the bellcrank assembly would take about 6 work-hours, for a labor cost of $510 per airplane; however, we have no definitive data to determine the cost of parts required. We have received no definitive data that would enable us to provide a cost estimate for replacing or overhauling the elevator PCA input rod assembly, adjusting the elevator PCA input rod assemblies, and doing structural inspections specified in this proposed AD.

According to the manufacturer, some of the costs of this proposed AD might be covered under warranty, thereby reducing the cost impact on affected individuals. We do not control warranty coverage for affected individuals. As a result, we have included all costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directives (ADs) 2000-17-05, Amendment 39-11879 (65 FR 51754, August 25, 2000); and 2001-04-09, Amendment 39-12128 (66 FR 13227, March 5, 2001); and adding the following new AD:

The Boeing Company: Docket No. FAA-2013-0095; Directorate Identifier 2011-NM-197-AD.

(a) Comments Due Date

The FAA must receive comments on this AD action by April 12, 2013.

(b) Affected ADs

This AD supersedes AD 2000-17-05, Amendment 39-11879 (65 FR 51754, August 25, 2000); and AD 2001-04-09, Amendment 39-12128 (66 FR 13227, March 5, 2001). This AD affects AD 2007-24-08, Amendment 39-15274 (72 FR 67236, November 28, 2007).

(c) Applicability

This AD applies to all The Boeing Company Model 767-200, -300, -300F, and -400ER series airplanes, certificated in any category.

(d) Subject

Joint Aircraft System Component (JASC)/Air Transport Association (ATA) of America Code 27, Flight controls.

(e) Unsafe Condition

This AD was prompted by reports of failed shear rivets in the bellcrank assemblies of the elevator power control actuator (PCA). We are issuing this AD to prevent continued operation with yielded or failed shear rivets in the elevator PCA bellcrank assemblies, and to prevent certain failures or jams in the elevator system from causing a hardover of the elevator surface, resulting in a significant pitch upset and possible loss of control of the airplane.

(f) Compliance

Comply with this AD within the compliance times specified, unless already done.

(g) Retained Functional Check

This paragraph restates the requirements of paragraph (a) of AD 2000-17-05, Amendment 39-11879 (65 FR 51754, August 25, 2000). For Model 767-200, -300, and -300F series airplanes, line numbers 1 through 800 inclusive: Within 30 days after September 11, 2000 (the effective date AD 2000-17-05), perform a functional check of one shear rivet in all six elevator PCA bellcrank assemblies to determine the condition of the shear rivets, in accordance with Paragraph 3 of the Accomplishment Instructions of Boeing Alert Service Bulletin 767-27A0166, dated August 17, 2000. Doing the actions required by paragraphs (j), (k), and (l) of this AD terminates the requirements of paragraph (g) of this AD.

(1) If all penetration depths, when measured per Figure 2 of Boeing Alert Service Bulletin 767-27A0166, dated August 17, 2000, are 0.50 inch or more, no further action is required by paragraph (g) of this AD.

(2) If any penetration depth, when measured per Figure 2 of Boeing Alert Service Bulletin 767-27A0166, dated August 17, 2000, is 0.35 inch or more, but less than 0.50 inch, rework or replace the bellcrank assembly with a new or serviceable bellcrank assembly within 400 flight hours after accomplishing the functional check. After installation of a new or serviceable bellcrank assembly, and prior to further flight, repeat the functional check of all the bellcrank assemblies to make sure the rivets are still in good condition (as specified in Boeing Alert Service Bulletin 767-27A0166, dated August 17, 2000) after installation, in accordance with Figure 2 of Boeing Alert Service Bulletin 767-27A0166, dated August 17, 2000.

(3) If any penetration depth, when measured per Figure 2 of Boeing Alert Service Bulletin 767-27A0166, dated August 17, 2000, is less than 0.35 inch, prior to further flight, rework or replace the bellcrank assembly with a new or serviceable bellcrank assembly. After installation of a new or serviceable bellcrank assembly, and prior to further flight, repeat the functional check of all the bellcrank assemblies to make sure the rivets are still in good condition (as specified in Boeing Alert Service Bulletin 767-27A0166, dated August 17, 2000) after installation, in accordance with Figure 2 of Boeing Alert Service Bulletin 767-27A0166, dated August 17, 2000.

(h) Retained Repetitive Tests

This paragraph restates the requirements of paragraph (a) of AD 2001-04-09, Amendment 39-12128 (66 FR 13227, March 5, 2001), with revised provisions for repetitive tests. For all airplanes: Within 90 days after March 20, 2001 (the effective date of AD 2001-04-09), perform a test of the elevator PCA bellcranks to determine if an elevator PCA is rigged incorrectly due to yielded or failed shear rivets in a bellcrank assembly, in accordance with Boeing Alert Service Bulletin 767-27A0168 (for Model 767-200, -300, and -300F series airplanes) or 767-27A0169 (for Model 767-400ER series airplanes), both dated November 21, 2000. Repeat the test thereafter at least every 400 flight hours. As of March 20, 2001 (the effective date of AD 2001-04-09), and until the accomplishment of the actions required by paragraphs (j), (k), and (l) of this AD, as applicable. Accomplishment of the repetitive tests required by paragraph (h) of this AD are acceptable for compliance with the functional check of the elevator system required by a certification maintenance requirement (CMR) that is documented as Item Number 27-31-00-5B in the Boeing 767 Maintenance Planning Document (MPD). Doing the actions required by paragraphs (j), (k), and (l) of this AD terminates the requirements of paragraph (h) of this AD. After accomplishment of the actions required by paragraphs (j), (k), and (l) of this AD, accomplishment of the repetitive tests required by paragraph (h) of this AD are not acceptable for compliance with the functional check of the elevator system required by a CMR that is documented as Item Number 27-31-00-5B in the Boeing 767 MPD.

(i) Retained Follow-On Actions

This paragraph restates the requirements of paragraph (b) of AD 2001-04-09, Amendment 39-12128 (66 FR 13227, March 5, 2001). For all airplanes: If an elevator PCA is determined to be rigged incorrectly during any test required by paragraph (h) of this AD, before further flight, do a one-time inspection to measure penetration depth of the shear rivets of all three elevator bellcrank assemblies of the affected elevator surface, in accordance with Boeing Alert Service Bulletin 767-27A0168 (for Model 767-200, -300, and -300F series airplanes) or 767-27A0169 (for Model 767-400ER series airplanes), both dated November 21, 2000. Doing the actions required by paragraphs (j), (k), and (l) of this AD terminates the requirements of paragraph (i) of this AD.

(1) If the measured penetration depth of the shear rivets on all bellcrank assemblies is 0.50 inch or more: Before further flight, re-rig the elevator PCA correctly, in accordance with Boeing Alert Service Bulletin 767-27A0168 (for Model 767-200, -300, and -300F series airplanes) or 767-27A0169 (for Model 767-400ER series airplanes), both dated November 21, 2000.

(2) If the measured shear rivet penetration depth on any single bellcrank assembly is less than 0.50 inch: Before further flight, repair the bellcrank assembly by replacing the shear rivets or replace the bellcrank assembly, and reassemble and re-rig the elevator control system, in accordance with Boeing Alert Service Bulletin 767-27A0168 (for Model 767-200, -300, and -300F series airplanes) or 767-27A0169 (for Model 767-400ER series airplanes), both dated November 21, 2000.

(j) New Inspection and Modification

For airplanes having line numbers 1 through 901 inclusive: Within 72 months after the effective date of this AD, do a general visual inspection of the three PCA bellcrank assemblies on each elevator to determine the part numbers (P/Ns) of the bellcrank assemblies and to determine whether the bellcrank assembly has shear rivets, in accordance with the Accomplishment Instructions of Boeing Service Bulletin 767-27-0186, dated June 25, 2007 (for Model 767-200, -300, and -300F series airplanes); or 767-27-0187, dated June 25, 2007 (for Model 767-400ER series airplanes).

(1) If the bellcrank assembly has P/N 252T2118-4 or 252T2118-5, and has solid rivets, no further action is required by this paragraph.

(2) If the bellcrank is a solid one-piece bellcrank with no rivets, no further action is required by this paragraph.

(3) If the bellcrank assembly has P/N 252T2118-1, 252T2118-2, or 252T2118-3, and has shear rivets, before further flight, do the action specified in either paragraph (j)(3)(i) or (j)(3)(ii) of this AD, in accordance with the Accomplishment Instructions of Boeing Service Bulletin 767-27-0186, dated June 25, 2007 (for Model 767-200, -300, and -300F series airplanes); or 767-27-0187, dated June 25, 2007 (for Model 767-400ER series airplanes); except as provided by paragraph (n) of this AD.

(i) Rework the existing bellcrank to replace the shear rivets with solid rivets.

(ii) Install a new, solid one-piece (no rivets) bellcrank assembly having P/N 252T2118-6.

(k) New Repetitive Functional Test (Pogo Check)

(1) For airplanes having line numbers 1 through 901 inclusive: Before further flight after doing the inspection and applicable corrective actions required by paragraph (j) of this AD, do a functional test (pogo check) on each of the six elevator PCA input rod assemblies, in accordance with the Accomplishment Instructions of Boeing Service Bulletin 767-27-0186, dated June 25, 2007 (for Model 767-200, -300, and -300F series airplanes); or 767-27-0187, dated June 25, 2007 (for Model 767-400ER series airplanes).

(2) For all airplanes: At the latest of the times specified in paragraphs (k)(2)(i), (k)(2)(ii), and (k)(2)(iii) of this AD, do a functional test (pogo check) on each of the six elevator PCA input rod assemblies, in accordance with the Accomplishment Instructions of Boeing Service Bulletin 767-27-0200, dated June 25, 2007 (for Model 767-200, -300, and -300F series airplanes); or 767-27-0201, dated June 27, 2007 (for Model 767-400ER series airplanes). Repeat the pogo check thereafter at intervals not to exceed 12,000 flight hours.

(i) Before the accumulation of 12,000 total flight hours.

(ii) Within 12,000 flight hours after completion of the most recent pogo check.

(iii) Within 6,000 flight hours after the effective date of this AD.

(3) If any elevator PCA input rod assembly fails to meet any functional test requirement of this AD, before further flight, replace the elevator PCA input rod assembly with a new or serviceable assembly, or overhaul the elevator PCA input rod assembly, in accordance with the applicable service information identified in paragraphs (k)(3)(i) and (k)(3)(ii) of this AD, except as provided by paragraph (n) of this AD.

(i) For replacing or overhauling the assembly on Model 767-200, -300, and -300F airplanes: Use Boeing Service Bulletin 767-27-0186, dated June 25, 2007; or 767-27-0200, dated June 25, 2007; as applicable.

(ii) For replacing or overhauling the assembly on Model 767-400ER airplanes: Use Boeing Service Bulletin 767-27-0187, dated June 25, 2007; or 767-27-0201, dated June 27, 2007; as applicable.

(l) New Elevator PCA Check (Mis-Rig Check)

(1) For airplanes having line numbers 1 through 901 inclusive: Before further flight after doing the actions required by paragraphs (j) and (k) of this AD, do a check of the elevator PCA rigging, in accordance with the Accomplishment Instructions of Boeing Service Bulletin 767-27-0186, dated June 25, 2007 (for Model 767-200, -300, and -300F series airplanes); or 767-27-0187, dated June 25, 2007 (for Model 767-400ER series airplanes).

(2) For all airplanes: At the latest of the times specified in paragraphs (l)(2)(i), (l)(2)(ii), and (l)(2)(iii) of this AD, do a check of the elevator PCA rigging, in accordance with the Accomplishment Instructions of Boeing Service Bulletin 767-27-0202, Revision 1, dated February 21, 2008 (for Model 767-200, -300, and -300F series airplanes); or 767-27-0203, Revision 1, dated February 21, 2008 (for Model 767-400ER series airplanes). Repeat the mis-rig check thereafter at intervals not to exceed 6,000 flight hours.

(i) Before the accumulation 6,000 total flight hours.

(ii) Within 6,000 flight hours after the completion of the most recent mis-rig check, or after completion of the most recent bellcrank repetitive check, as specified in Boeing Alert Service Bulletin 767-27A0168.

(iii) Within 6,000 flight hours after the effective date of this AD.

(3) If a mis-rig condition is found, before further flight, adjust the PCA input rod assemblies and do a structural inspection for damage, in accordance with the Accomplishment Instructions of Boeing Service Bulletin 767-27-0202, Revision 1, dated February 21, 2008 (for Model 767-200, -300, and -300F airplanes); or 767-27-0203, Revision 1, dated February 21, 2008 (for Model 767-400ER airplanes). If any damage is found during any structural inspection, before further flight, repair in accordance with a method approved by the Manager, Seattle Aircraft Certification Office (ACO), FAA. For a repair method to be approved, the repair must meet the certification basis of the airplane, and the approval must specifically refer to this AD.

(m) Terminating Action

Accomplishment of the requirements of paragraphs (j), (k), and (l) of this AD terminates the requirements of paragraphs (g), (h), and (i) of this AD.

(n) Service Bulletin Exception

Where Boeing Service Bulletins 767-27-0186 and 767-27-0187, both dated June 25, 2007, specify the use of grease BMS 3-24, this AD allows the alternate use of grease BMS 3-33.

(o) Method of Compliance for Paragraph (k) of AD 2007-24-08, Amendment 39-15274 (72 FR 67236, November 28, 2007)

For airplanes identified in paragraphs (o)(1) and (o)(2) of this AD: Doing the actions required by paragraphs (j), (k), and (l) of this AD is acceptable for compliance with the actions required by paragraph (k) of AD 2007-24-08, Amendment 39-15274 (72 FR 67236, November 28, 2007).

(1) Group 1, Configuration 2, airplanes identified in Boeing Special Attention Service Bulletin 767-27-0197, Revision 1, dated July 19, 2007.

(2) Group 1, Configuration 1, airplanes identified in Boeing Special Attention Service Bulletin 767-27-0198, Revision 1, dated July 19, 2007.

(p) Parts Installation Prohibition

As of the effective date of this AD, no person may install a bellcrank assembly, P/N 252T2118-1, 252T2118-2, or 252T2118-3, on any airplane.

(q) Credit for Previous Actions

This paragraph provides credit for the actions required by paragraph (l) of this AD, if those actions were performed before the effective date of this AD using Boeing Service Bulletin 767-27-0202 (for Model 767-200, -300, and -300F airplanes) or 767-27-0203, (for Model 767-400ER airplanes), both dated June 25, 2007.

(r) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane and the approval must specifically refer to this AD.

(4) AMOCs approved previously in accordance with AD 2001-04-09, Amendment 39-12128 (66 FR 13227, March 5, 2001), are approved as AMOCs for the corresponding requirements of this AD.

(s) Related Information

(1) For more information about this AD, contact Marie Hogestad, Aerospace Engineer, Systems and Equipment Branch, ANM-130S, FAA, Seattle Aircraft Certification Office, 1601 Lind Avenue SW., Renton, WA 98057-3356; phone: 425-917-6418; fax: (425) 917-6590; email: marie.hogestad@faa.gov.

(2) For service information identified in this AD, contact Boeing Commercial Airplanes, Attention: Data & Services Management, P. O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Issued in Renton, Washington, on February 13, 2013.
Ali Bahrami,
Manager, Transport Airplane Directorate, Aircraft Certification Service.

[FR Doc. 2013-04338 Filed 2-25-13; 8:45 am]

BILLING CODE 4910-13-P